DEPARTMENT OF THE INTERIOR

Bureau of Land Management

[BLM_NV_FRN_MO#4500176350]

Notice of Intent To Amend the Carson City Field Office Consolidated Resource Management Plan and Prepare an Associated Environmental Assessment for the Dodge Flat II Solar Energy Center in Washoe County, NV

AGENCY: Bureau of Land Management, Interior.

ACTION: Notice of intent.

SUMMARY: In compliance with the National Environmental Policy Act of 1969, as amended (NEPA), and the Federal Land Policy and Management Act of 1976, as amended (FLPMA), the Bureau of Land Management (BLM) Nevada State Director intends to prepare a resource management plan (RMP) amendment with an associated Environmental Assessment for the Dodge Flat II Solar Energy Center and by this notice is announcing the beginning of the scoping period to solicit public comments and identify issues, and is providing the planning criteria for public review.

DATES: The BLM requests the public submit comments concerning the scope of the analysis, potential alternatives, and identification of relevant information and studies by February 20, 2024. To afford the BLM the opportunity to consider issues raised by the public, please ensure your comments are received prior to the close of the 30-day scoping period.

ADDRESSES: You may submit comments on issues and planning criteria related to the Dodge Flat II Solar Energy Center by any of the following methods:

• Website: https://eplanning.blm.gov/eplanning-ui/project/2027081/510.

• Email: BLM_NV_CCDO_Dodge_Flat_Solar@blm.gov.

• Mail: BLM, Carson City District Office, Attn: Dodge Flat II Solar Energy Center, 5665 Morgan Mill Rd., Carson City, NV 89701.

Documents pertinent to this proposal may be examined online at https://eplanning.blm.gov/eplanning-ui/project/2027081/510 and at the Carson City District Office.

FOR FURTHER INFORMATION CONTACT: Katy Paiva, Realty Specialist, telephone (775) 885-6034; address 5665 Morgan Mill Rd., Carson City, NV 89701; email kpaiva@blm.gov. Contact Katy Paiva to have your name added to our mailing list. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM Nevada State Director intends to prepare an RMP amendment with an associated Environmental Assessment for the Dodge Flat II Solar Energy Center, announces the beginning of the scoping process, and seeks public input on issues and planning criteria. The RMP amendment is being considered to allow the BLM to evaluate the use of approximately 71 acres of public land that are identified as “exclusion lands” in the 2012 “Final Programmatic Environmental Impact Statement for Solar Energy Development in Six Southwestern States (Arizona, California, Colorado, Nevada, New Mexico, and Utah)” (Solar Programmatic EIS) Record of Decision due to slope criteria. The use of these exclusion lands for solar power generation would require amending the existing 2001 Carson City Field Office Consolidated Resource Management Plan, as amended by the Solar Programmatic EIS Record of Decision. The planning area is located in Washoe County, Nevada, and encompasses approximately 700 acres of public land. The scope of this land use planning process does not include addressing the evaluation or designation of Areas of Critical Environmental Concern (ACECs), and the BLM is not considering ACEC nominations as part of this process.

Purpose and Need

The BLM's purpose for this Federal action is to respond to the right-of-way application submitted under Title V of the FLPMA (43 U.S.C. 1761), and to amend the slope management direction in the 2001 Carson City Field Office Consolidated Resource Management Plan in compliance with the BLM right-of-way regulations (43 CFR 2800) and other applicable Federal and State laws and policies. In accordance with FLPMA, there is a need to consider the long-term needs of future generations for renewable and non-renewable resources in the context of the multiple resource objectives in the 2001 Carson City Field Office Consolidated Resource Management Plan planning area.

Preliminary Alternatives

Under the No Action alternative, the BLM would not approve the proposed Dodge Flat II Solar Energy Center on public lands that are currently excluded from utility-scale solar energy development due to slopes exceeding 5 percent and would not amend the slope management direction in the 2001 Carson City Field Office Consolidated Resource Management Plan. Under the proposed action alternative, the BLM would change the slope management direction in the 2001 Carson City Field Office Consolidated Resource Management Plan to allow for the Dodge Flat II Solar Energy Center to be developed as currently proposed. The BLM welcomes comments and suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and other stakeholders. The BLM has identified 10 preliminary issues for this planning effort's analysis. The planning criteria are available for public review and comment on the National NEPA Register website (see ADDRESSES).

Public Scoping Process

This notice of intent initiates the scoping period and public review of the planning criteria, which guide the development and analysis of the RMP amendment and associated Environmental Assessment. The BLM will be holding one virtual scoping meeting. The specific date and time of the scoping meeting will be announced at least 15 days in advance through the National NEPA Register project web page https://eplanning.blm.gov/eplanning-ui/project/2027081/510.

Interdisciplinary Team

The BLM will use an interdisciplinary approach to develop the plan amendment in order to consider the variety of resource issues and concerns identified. Specialists with expertise in the following disciplines will be involved in this planning effort: air quality, cultural resources, botany, climate change (greenhouse gases), environmental justice, grazing, human health and safety, land use and authorizations, migratory birds, noise impacts, socioeconomics, transportation, visual resources, water quality, and wildlife.

Additional Information

The BLM will identify, analyze, and consider mitigation to address the reasonably foreseeable impacts to resources from the proposed plan amendment and all analyzed reasonable alternatives and, in accordance with 40 CFR 1502.14(e), include appropriate mitigation measures not already included in the proposed plan amendment or alternatives. Mitigation may include avoidance, minimization, rectification, reduction or elimination over time, and compensation; and may be considered at multiple scales, including the landscape scale.

The BLM will utilize and coordinate the NEPA and land use planning processes for this planning effort to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed plan amendment will assist the BLM in identifying and evaluating impacts to such resources.

The BLM will consult with Indian Tribes on a government-to-government basis in accordance with Executive Order 13175, BLM MS 1780, and other Departmental policies. Tribal concerns, including impacts on Indian trust assets and potential impacts to cultural resources, will be given due consideration. Federal, State, and local agencies, along with Indian Tribes and other stakeholders that may be interested in or affected by the proposed Dodge Flat II Solar Energy Center project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.7 and 43 CFR 1610.2)

Jon K. Raby,
State Director.

[FR Doc. 2024-00942 Filed 1-18-24; 8:45 am]

BILLING CODE 4331-21-P